DEPARTMENT OF DEFENSE

Department of the Navy

Notice of Intent To Grant Exclusive Patent License; Ecolab, Inc.

AGENCY: Department of the Navy, DOD.

ACTION: Notice.

SUMMARY: The Department of the Navy hereby gives notice of its intent to grant to Ecolab, Inc., a revocable, nonassignable, exclusive license to practice in the United States and certain foreign countries, the Government-owned invention described in U.S. Patent Application Serial No. 10/237,074 filed September 9, 2002, entitled “Ion Selective Electrodes for Direct Organic Drug Analysis in Saliva, Sweat, and Surface Wipes”, Navy Case No. 83,326 in the field of testing and monitoring of water, wastewater and water-based cleaning and sanitizing solutions in industrial and institutional facilities.

DATES: Anyone wishing to object to the grant of this license must file written objections along with supporting evidence, if any, not later than October 1, 2003.

ADDRESSES: Written objections are to be filed with the Naval Research Laboratory, Code 1004, 4555 Overlook Avenue, SW, Washington, DC 20375-5320.

FOR FURTHER INFORMATION CONTACT: Paul A. Regeon, Acting Head, Technology Transfer Office, NRL Code 1004, 4555 Overlook Avenue, SW, Washington, DC 20375-5320, telephone (202) 767-7230. Due to U.S. Postal delays, please fax (202) 404-7920, e-mail: regeon@nrl.navy.mil or use courier delivery to expedite response.

(Authority: 35 U.S.C. 207, 37 CFR Part 404.)

Dated: September 9, 2003.
E.F. McDonnell,
Major, U.S. Marine Corps, Federal Register Liaison Officer.

[FR Doc. 03-23540 Filed 9-15-03; 8:45 am]

BILLING CODE 3810-FF-P